ENVIRONMENTAL PROTECTION AGENCY

[CERCLA-03-2026-0029CR; FRL 13114-01-R3]

Proposed Cercla Cost Recovery Settlement for the Trinseo Polymer Release Site, Bristol, Bucks County, Pennsylvania

AGENCY: Environmental Protection Agency (EPA).

ACTION: Notice; request for comment.

SUMMARY: In accordance with section 122(i) of the Comprehensive Environmental Response, Compensation, and Liability Act of 1980 (CERCLA), notice is hereby given by the U.S. Environmental Protection Agency (EPA), Region 3, of a proposed cost recovery settlement agreement (Settlement) pursuant to CERCLA with Altuglas, LLC (Settling Party) relating to the Trinseo Polymer Release Site (Site), located in Bristol, Bucks County, Pennsylvania.

DATES: Written comments must be received on or before February 17, 2026.

ADDRESSES: Requests for copies of the proposed Settlement and submission of comments must be via electronic mail to R3_ORC_Mailbox@epa.gov. Comments should reference the Trinseo Polymer Release Site, Bristol, Bucks County, Pennsylvania, Index No. CERCLA-03-2026-0029 CR. For those unable to communicate via electronic mail, please contact the EPA employee identified below.

FOR FURTHER INFORMATION CONTACT: Robert Hasson, Senior Assistant Regional Counsel, CERCLA Branch 1, U.S. Environmental Protection Agency, Region 3, 1600 John F. Kennedy Blvd., Philadelphia, PA 19103. Email: Hasson.Robert@epa.gov. Telephone: 215-814-2672.

SUPPLEMENTARY INFORMATION: The Settling Party will pay to the EPA $22,171.29, the amount of the EPA's initial demand on August 21, 2025, plus additional sums for: (i) interest on that amount calculated from August 21, 2025, through the date of publication of the notice of this Settlement Agreement in the Federal Register; and (ii) interim response costs incurred by EPA from August 21, 2025, through the date of publication of the notice of this Settlement Agreement in the Federal Register (collectively defined as “Past Response Costs”). The Settlement includes a covenant by the EPA not to sue or to take administrative action against Settling Party pursuant to section 107(a) of CERCLA, 42 U.S.C. 9607(a), with regard to the EPA's past response costs as provided in the Settlement. For thirty (30) days following the date of publication of this notice, the EPA will receive written comments relating to the proposed Settlement. The EPA will consider all comments received and may modify or withdraw its consent to the proposed Settlement if comments received disclose facts or considerations that indicate that the proposed Settlement is inappropriate, improper, or inadequate.

The EPA's response to any comments received will be available for public inspection by request. Please see the ADDRESSES section of this document for instructions.

Paul Leonard,
Director, Superfund & Emergency Management Division, U.S. Environmental Protection Agency, Region 3.

[FR Doc. 2026-00783 Filed 1-15-26; 8:45 am]

BILLING CODE 6560-50-P